NEIGHBORHOOD REINVESTMENT CORPORATION

Regular Board of Directors Meeting; Sunshine Act

TIME AND DATE: 10:00 a.m., Tuesday, February 7, 2017.

PLACE: NeighborWorks America—Gramlich Boardroom, 999 North Capitol Street NE., Washington, DC 20002.

STATUS: Open (with the exception of Executive Sessions).

CONTACT PERSON: Jeffrey Bryson, EVP & General Counsel/Secretary, (202) 760-4101; jbryson@nw.org.

AGENDA:

I. Call to Order

II. Approval of Minutes

III. Executive Session: External Audit Update

IV. Executive Session: Audit Committee Report

V. Executive Session: Report From CEO

VI. DC Office Lease Extension

VII. FY17 Budget Update

VIII. Management Program Background and Updates

IX. Adjournment

The General Counsel of the Corporation has certified that in his opinion, one or more of the exemptions set forth in 5 U.S.C. 552(b)(2) and (4) permit closure of the following portion(s) of this meeting:

• External Audit Update

• Audit Committee Report

• Report from CEO

Jeffrey T. Bryson,
EVP & General Counsel/Corporate Secretary.

[FR Doc. 2017-02270 Filed 1-31-17; 11:15 am]

BILLING CODE 7570-02-P